DEPARTMENT OF COMMERCE

International Trade Administration

[A-580-834]

Stainless Steel Sheet and Strip in Coils from Korea: Extension of Time Limits for Preliminary Results of Antidumping Duty Administrative Review

AGENCY: Import Administration, International Trade Administration, Department of Commerce.

ACTION: Notice of extension of time limits for the preliminary results of antidumping duty administrative review.

SUMMARY: The Department of Commerce (“the Department”) is extending the time limits for the preliminary results of the antidumping duty administrative review of stainless steel sheet and strip (“SSSS”) from Korea.

EFFECTIVE DATE: March 6, 2002.

FOR FURTHER INFORMATION CONTACT: Laurel LaCivita, AD/CVD Enforcement Group III, Office 9, Import Administration, International Trade Administration, U.S. Department of Commerce, 14th Street and Constitution Avenue, N.W., Washington, D.C. 20230; telephone: (202) 482-4243.

BACKGROUND:

On August 10, 2001, we published a notice of initiation of a review of SSSS from Korea covering the period July 1, 2000 through June 30, 2001. See Initiation of Antidumping and Countervailing Duty Administrative Reviews and Requests for Revocation in Part, August, 20, 2001 (66 FR 43570). The Department's preliminary results are currently due on April 2, 2002.

EXTENSION OF TIME LIMITS FOR PRELIMINARY RESULTS

Section 751(a)(3)(A) of the Act states that if it is not practicable to complete the review within the time specified, the administering authority may extend the 245-day period to issue its preliminary results by 120 days. Completion of the preliminary results of this review within the 245-day period is not practicable for the following reasons:

•The review involves a large number of transactions and complex adjustments.

•All companies include sales and cost investigations which require the Department to gather and analyze a significant amount of information pertaining to each company's sales practices, manufacturing costs and corporate relationships.

Therefore, in accordance with section 751(a)(3)(A) of the Act, we are extending the time period for issuing the preliminary results of review by 120 days until July 31, 2002. The final results continue to be due 120 days after the publication of the preliminary results.

February 27, 2002
Joseph A. Spetrini,
Deputy Assistant Secretary for Import Administration, Group III.

[FR Doc. 02-5349 Filed 3-5-02; 8:45 am]

BILLING CODE 3510-DS-S